ENVIRONMENTAL PROTECTION AGENCY

[ER-FRL-9017-8]

Environmental Impact Statements; Notice of Availability

Responsible Agency: Office of Federal Activities, General Information (202) 564-7146 or http://www.epa.gov/compliance/nepa/.

Weekly receipt of Environmental Impact Statements

Filed 10/27/2014 Through 10/31/2014

Pursuant to 40 CFR 1506.9.

Notice

Section 309(a) of the Clean Air Act requires that EPA make public its comments on EISs issued by other Federal agencies. EPA's comment letters on EISs are available at: http://www.epa.gov/compliance/nepa/eisdata.html.

EIS No. 20140314, Draft EIS, HUD, CA, Potrero HOPE SF Master Plan Project, Comment Period Ends: 12/22/2014, Contact: Eugene Flannery 415-701-5598.

EIS No. 20140315, Final Supplement, BLM, AK, Alpine Satellite Development Plan for the Proposed Greater Mooses Tooth One Development Project, Review Period Ends: 12/08/2014, Contact: Bridget Psarianos 907-271-4208.

EIS No. 20140316, Second Draft Supplement, BOEM, AK, Chukchi Sea Planning Area, Oil and Gas Lease Sale 193, Comment Period Ends: 12/22/2014, Contact: Michael Routhier 907-334-5200.

EIS No. 20140317, Final EIS, USACE, AL, Update of the Water Control Manual for the Alabama-Coosa-Tallapoosa River Basin in Georgia and Alabama, Review Period Ends: 12/08/2014, Contact: Lewis Sumner 251-694-3857.

EIS No. 20140318, Draft EIS, USFS, CA, Green-Horse Habitat Restoration and Maintenance Project, Comment Period Ends: 12/22/2014, Contact: Jason Fallon 530-242-5557.

EIS No. 20140319, Draft EIS, USFWS, CA, Measure M Natural Community Conservation Plan/Habitat Conservation Plan, Comment Period Ends: 01/29/2015, Contact: Jonathan Snyder 760-431-9440.

EIS No. 20140320, Final Supplement, FTA, CA, Mid-Coast Corridor Transit Project/Record of Decision, Contact: Alexander Smith 415-744-3133. Under MAP 21 Section 1319, FTA has issued a Final EIS and ROD. Therefore, the 30-day review/wait period under NEPA does not apply to the above action.

Amended Notices

EIS No. 20140264, Draft Supplement, FHWA, IL, US 30 (FAP 309), From IL-136 to IL-40, Comment Period Ends: 11/10/2014, Contact: Catherine A. Batey 217-492-4640. Revision to the FR Notice Published 09/19/2014; Extending Comment Period from 11/03/2014 to 11/10/2014.

EIS No. 20140281, Second Draft Supplement, FHWA, AK, Juneau Access Improvements Project, Comment Period Ends: 11/25/2014, Contact: Tim Haugh 907-586-7418. Revision to the FR Notice Published 09/26/2014; Extending Comment Period from 11/10/2014 to 11/25/2014.

Dated: November 4, 2014.
Cliff Rader,
Director, NEPA Compliance Division, Office of Federal Activities.

[FR Doc. 2014-26532 Filed 11-6-14; 8:45 am]

BILLING CODE 6560-50-P